DEPARTMENT OF COMMERCE

Patent and Trademark Office

Agency Information Collection Activities; Submission to the Office of Management and Budget for Review and Approval; Comment Request; Patent and PTAB Pro Bono Programs

AGENCY: United States Patent and Trademark Office, Department of Commerce.

ACTION: Notice of information collection; request for comments.

SUMMARY: The United States Patent and Trademark Office (USPTO), as required by the Paperwork Reduction Act of 1995, invites comments on the extension and revision of an existing information collection: 0651-0082 (Patent and PTAB Pro Bono Programs). The purpose of this notice is to allow 60 days for public comments preceding submission of the information collection to the Office of Management and Budget (OMB).

DATES: To ensure consideration, you must submit comments regarding this information collection on or before December 1, 2025.

ADDRESSES: Interested persons are invited to submit written comments by any of the following methods. Do not submit Confidential Business Information or otherwise sensitive or protected information.

• Email: InformationCollection@uspto.gov. Include “0651-0082 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Requests for additional information should be directed to:

Patents: Grant Corboy, Staff Attorney, Office of Enrollment and Discipline, United States Patent and Trademark Office, P.O. Box 1450, Alexandria, VA 22313-1450; 571-270-3102; or Grant.Corboy@uspto.gov.

PTAB: Stacey G. White, Lead Administrative Patent Judge, Patent Trial and Appeal Board, Texas Regional Office, 207 S Houston St, Dallas, TX 75202; 469-295-9061; or Stacey.White@uspto.gov.

Include “0651-0082 comment” in the subject line. Additional information about this information collection is also available at http://www.reginfo.gov under “Information Collection Review.”

SUPPLEMENTARY INFORMATION:

I. Abstract

The Leahy-Smith America Invents Act (AIA), Public Law 112-29 § 32 (2011) directs the USPTO to work with and support intellectual property law associations across the country in the establishment of pro bono programs designed to assist financially under-resourced independent inventors and small businesses (also referred to as “regional hubs”). To support this, the USPTO works with and supports various non-profit organizations to operate a series of autonomous regional hubs that endeavor to match under-resourced inventors with volunteer patent practitioners across the United States. The regional hubs comprise law schools, bar associations, innovation/entrepreneurial organizations, and arts-focused lawyer referral services that are strategically located to provide access to patent pro bono services across all fifty states, the District of Columbia, and Puerto Rico.

To support the purposes described above, the Patent Pro Bono Survey collects information regarding the activity of the regional hubs. The USPTO works with the Pro Bono Advisory Council (PBAC) to determine what information is necessary to evaluate the effectiveness of each regional hub's operations. The PBAC is a well-established group of patent practitioners and thought leaders in intellectual property who provide support and guidance to the regional hubs across the country. The collected data provides the USPTO with valuable information, including the number of inventor inquiries, referral sources, number of pro bono applicants successfully matched with patent practitioners, and types of patent filings. The USPTO, PBAC, and the regional hubs, are responsible for the quarterly collection of this data.

The USPTO's Patent Trial and Appeal Board (PTAB), collaborates with the PTAB Bar Association (PTAB Bar Assoc.), a non-profit organization that has taken up the task of helping secure the just, speedy, and inexpensive resolution of PTAB proceedings and serves the public by coordinating pro bono opportunities. The PTAB Bar Assoc. established a national clearinghouse that acts as a matchmaker connecting under-resourced inventors with volunteer patent practitioners across the United States for assistance in preparing and arguing ex parte appeals before the PTAB. The PTAB Bar Assoc.'s national clearinghouse provides nationwide access to legal representation for pro bono ex parte appeal services. The PTAB Pro Bono Program supports the purposes described above by facilitating the availability of pro bono services for proceedings before the PTAB, which the USPTO believes can help reduce the financial burden on under-resourced inventors seeking ex parte appeal assistance.

This information collection covers the surveys used in the Patent and PTAB Pro Bono Programs. The surveys gather information about the effectiveness of the programs and how participants utilize the programs' resources. The information, at its highest level, allows the USPTO to determine whether the regional hubs and national clearinghouse are matching qualified under-resourced inventors with volunteer patent practitioners and help estimate the total economic benefit derived by under-resourced inventors in the form of donated legal services. This information also helps the USPTO determine if the regional hubs and clearinghouse are effectively serving under-resourced inventors and whether they need additional support.

II. Method of Collection

The items in this information collection are submitted electronically.

III. Data

OMB Control Number: 0651-0082.

Forms:

• USPTO/550 (Patent Pro Bono Survey)

• USPTO/552 (PTAB Pro Bono Survey)

Type of Review: Extension and revision of a currently approved information collection.

Affected Public: Private sector.

Respondent's Obligation: Required to obtain or retain benefits.

Frequency: Quarterly; annually.

Estimated Number of Annual Respondents: 22 respondents.

Estimated Number of Annual Responses: 85 responses.

Estimated Time per Response: The USPTO estimates that the responses in this information collection will take the public approximately 1.75 hours (105 minutes) to complete. This includes the time to gather the necessary information, create the document, and submit the completed item to the USPTO.

Estimated Total Annual Respondent Burden Hours: 149 hours.

Estimated Total Annual Respondent Hourly Cost Burden: $9,536.

Table 1—Total Burden Hours and Hourly Costs to Private Sector Respondents
Item No. | Item | Estimated annual respondents | Responses per respondent | Estimated annual responses | Estimated time for response (hours) | Estimated burden (hour/year) | Rate ¹ ($/hour) | Estimated annual respondent cost burden
|  | (a) | (b) | (a) × (b) = (c) | (d) | (c) × (d) = (e) | (f) | (e) × (f) = (g)
1 | Patent Pro Bono Survey (USPTO/550) | 21 | 4 | 84 | 1.75 (105 minutes) | 147 | $64 | $9,408
2 | PTAB Pro Bono Survey (USPTO/552) | 1 | 1 | 1 | 1.75 (105 minutes) | 2 | $64 | $128
Totals |  | 22 |  | 85 |  | 149 |  | $9,536

¹ The USPTO uses the mean hourly wage ($64) for administrators according to the data from the Bureau of Labor Statistics' May 2024 Occupational Employment Statistics Profile (occupation code 11-1021); https://www.bls.gov/oes/tables.htm).

Estimated Total Annual Respondent Non-hourly Cost Burden: $0. There are no capital start-up costs, maintenance costs, recordkeeping costs, filing fees, or postage costs associated with this information collection.

IV. Request for Comments

The USPTO is soliciting public comments to:

(a) Evaluate whether the collection of information is necessary for the proper performance of the functions of the agency, including whether the information will have practical utility;

(b) Evaluate the accuracy of the agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time. While you may ask in your comment to withhold PII from public view, the USPTO cannot guarantee that it will be able to do so.

Justin Isaac,
Information Collections Officer, Office of the Chief Administrative Officer, United States Patent and Trademark Office.

[FR Doc. 2025-19357 Filed 10-1-25; 8:45 am]

BILLING CODE 3510-16-P